DEPARTMENT OF COMMERCE

International Trade Administration

[A-533-808]

Stainless Steel Wire Rod From India: Rescission of Antidumping Duty Administrative Review; 2016-2017

AGENCY: Enforcement and Compliance, International Trade Administration, Department of Commerce.

SUMMARY: The Department of Commerce (Commerce) is rescinding the administrative review of the antidumping duty order on stainless steel wire rod from India for the period December 1, 2016, through November 30, 2017.

DATES: Applicable April 24, 2018.

FOR FURTHER INFORMATION CONTACT: Hermes Pinilla, AD/CVD Operations, Office I, Enforcement and Compliance, International Trade Administration, U.S. Department of Commerce, 1401 Constitution Avenue NW, Washington, DC 20230; telephone: (202) 482-3477.

SUPPLEMENTARY INFORMATION:

Background

On December 4, 2017, Commerce published a notice of opportunity to request an administrative review of the antidumping duty order on stainless steel wire rod (SSWR) from India for the period of review (POR) December 1, 2016, through November 30, 2017.¹ On December 29, 2017, in accordance with section 751(a) of the Tariff Act of 1930, as amended (the Act), and 19 CFR 351.213(b), Isinox Limited (Isinox) requested an administrative review of the order with respect to its exports of subject merchandise to the United States.² On February 23, 2018, in accordance with section 751(a) the Act and 19 CFR 351.221(c)(1)(i), we initiated an administrative review of the order on SSWR from India with respect to Isinox.³ On April 6, 2018, Isinox timely withdrew its request for an administrative review.⁴ No other party requested a review.

¹ See Antidumping or Countervailing Duty Order, Finding, or Suspended Investigation; Opportunity to Request Administrative Review, 82 FR 57219 (December 4, 2017).

² See Isinox Limited's Letter, “Re: Stainless Steel Wire Rod: Request for Administrative Review,” dated December 29, 2017.

³ See Initiation of Antidumping and Countervailing Duty Administrative Reviews, 83 FR 8058 (February 23, 2018) (Initiation Notice).

⁴ See Isinox Limited's Letter, “Re Stainless Steel Wire Rod from India: Withdrawal of Request for Administrative Review of Antidumping Duty of Isinox Limited,” dated April 6, 2018.

Rescission of Review

Pursuant to 19 CFR 351.213(d)(1), Commerce will rescind an administrative review “in whole or in part, if a party that requested a review withdraws the request within 90 days of the date of publication of notice of initiation of the requested review.” Isinox withdrew its request for review within the 90-day time limit. Because Commerce received no other requests for review of Isinox, and no other requests for the review of the order on SSWR from India, we are rescinding the administrative review of the order in full, in accordance with 19 CFR 351.213(d)(1).

Assessment

Commerce will instruct U.S. Customs and Border Protection (CBP) to assess antidumping duties on all appropriate entries of SSWR products from India during the POR at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: April 19, 2018.
James Maeder,
Associate Deputy Assistant Secretary for Antidumping and Countervailing Duty Operations performing the duties of Deputy Assistant Secretary for Antidumping and Countervailing Duty Operations.

[FR Doc. 2018-08538 Filed 4-23-18; 8:45 am]

BILLING CODE 3510-DS-P